DEPARTMENT OF HEALTH AND HUMAN SERVICES

Health Resources and Services Administration

Health Center Program

AGENCY: Health Resources and Services Administration, HHS.

ACTION: Notice of Administrative Supplement to West End Medical Center, Inc. for provision of services in Gwinnett County, Georgia.

SUMMARY: The Health Resources and Services Administration (HRSA) will be issuing a non-competitive award of $250,000 under the Health Center Program (section 330 of the Public Health Service Act.) that will be awarded to West End Medical Center, Inc. (WEMC), Atlanta, Georgia, during the budget period June 1, 2012, through May 31, 2013. This award will support the delivery of primary care services in Gwinnett County, Georgia, to prevent a disruption in services.

SUPPLEMENTARY INFORMATION: Original Period of Grant Support: June 1, 2012, to May 31, 2013 (Budget Period).

Amount of Supplemental Award: $250,000.

Period of Supplemental Funding: June 1, 2012, to May 31, 2013.

Authority: Section 330 of the Public Health Service Act, 42 U.S.C. 245b.

CFDA Number: 93.224.

Justification for the Exception to Competition: The former grantee, Gwinnett County Board of Health (GCBH), relinquished the grant and its responsibilities. WEMC has been a HRSA funded Health Center grantee since 2002 and is a well-established organization with sound fiscal and grants management operations.

As a means of providing continued services in the Gwinnett County service area (formerly served by the GCBH), WEMC has arranged for the provision of services via an agreement with an existing health care provider in this area until the competitive award is announced.

FOR FURTHER INFORMATION CONTACT: Darrin Bowden via phone at (301) 594-4420 or via email at dbowden@hrsa.gov.

Dated: April 25, 2013.
Mary K. Wakefield,
Administrator.

[FR Doc. 2013-10294 Filed 4-30-13; 8:45 am]

BILLING CODE 4165-15-P